DEPARTMENT OF HEALTH AND HUMAN SERVICES

Centers for Disease Control and Prevention

[Program Announcement 03027]

Grants for New Investigator Training Awards for Unintentional Injury, Violence Related Injury, Acute Care, Disability, and Rehabilitation-Related Research; Notice of Availability of Funds Amendment

A notice announcing the availability of fiscal year (FY) 2003 funds for grants for new investigator training awards in four research areas: unintentional injury prevention, violence-related injury prevention, injury-related acute care and disability research, and injury-related biomechanics research published in the Federal Register on February 7, 2003, Volume 68, Number 26, and pages 6483-6488. The notice is amended as follows: On page 6483, second column, the Program Announcement 03027 title should read: Grants for New Investigator Training awards for Unintentional Injury, Violence related Injury, Biomechanics, Acute Care, Disability, and Rehabilitation-Related Research.

Dated: February 7, 2003.
Sandra R. Manning,
CGFM, Director, Procurement and Grants Office, Centers for Disease Control and Prevention.

[FR Doc. 03-3921 Filed 2-18-03; 8:45 am]

BILLING CODE 4163-18-P